DEPARTMENT OF TRANSPORTATION

Federal Motor Carrier Safety Administration

49 CFR Parts 380, 383, and 384

[FMCSA-2007-27748]

RIN 2126-AB66

Minimum Training Requirements for Entry-Level Commercial Motor Vehicle Operators

AGENCY: Federal Motor Carrier Safety Administration (FMCSA), DOT.

ACTION: Final rule; further delay of effective date.

SUMMARY: In accordance with the Presidential directive as expressed in the memorandum of January 20, 2017, from the Assistant to the President and Chief of Staff, entitled “Regulatory Freeze Pending Review,” this action temporarily delays, until June 5, 2017, the effective date of the final rule titled “Minimum Training Requirements for Entry-Level Commercial Motor Vehicle Operators,” initially effective on February 6, 2017.

DATES: The effective date of the final rule published on December 8, 2016 (81 FR 88732), delayed to March 21, 2017 at 82 FR 8903 and then further delayed to May 22, 2017 at 82 FR 14476, is further delayed until June 5, 2017.

FOR FURTHER INFORMATION CONTACT: Mr. Richard Clemente, Driver and Carrier Operations (MC-PSD) Division, FMCSA, 1200 New Jersey Ave. SE., Washington, DC 20590-0001, by telephone at 202-366-4325, or by email at MCPSD@dot.gov.

SUPPLEMENTARY INFORMATION: FMCSA bases this action on the Presidential directive as expressed in the memorandum of January 20, 2017, from the Assistant to the President and Chief of Staff, entitled “Regulatory Freeze Pending Review” (the January 20, 2017, memorandum). That memorandum directed the heads of Executive Departments and Agencies to temporarily postpone for 60 days from the date of the memorandum the effective dates of certain regulations that had been published in the Federal Register, but had not yet taken effect. Because the original effective date of the final rule published on December 8, 2016, fell within that 60-day window, the effective date of the rule was extended to March 21, 2017, in a final rule published on February 1, 2017 (82 FR 8903). Consistent with the memorandum of the Assistant to the President and Chief of Staff, and as stated in the February 1, 2017, final rule delaying the effective date, the Agency further delayed the effective date of this regulation until May 22, 2017 (82 FR 14476, March 21, 2017). The Agency now delays the effective date until June 5, 2017.

The Agency's implementation of this action without opportunity for public comment is based on the good cause exceptions in 5 U.S.C. 553(b)(B) and 553(d)(3), in that seeking public comment is impracticable, unnecessary and contrary to the public interest. The delay in the effective date until June 5, 2017, is necessary to provide the opportunity for further review and consideration of this new regulation, consistent with the January 20, 2017, memorandum. Given the imminence of the effective date of the “Minimum Training Requirements for Entry-Level Commercial Motor Vehicle Operators” final rule, seeking prior public comment on this temporary delay would be impractical, as well as contrary to the public interest in the orderly promulgation and implementation of regulations.

Issued under the authority of delegation in 49 CFR 1.87 on: May 18, 2017.
John Van Steenburg,
Assistant Administrator.

[FR Doc. 2017-10556 Filed 5-19-17; 4:15 pm]

BILLING CODE 4910-EX-P